DEPARTMENT OF HEALTH AND HUMAN SERVICES

Administration for Children and Families

Proposed Information Collection Activity; Comment Request

Proposed Projects:

Title: HHS/ACF/OPRE Head Start Classroom-based Approaches and Resources for Emotion and Social skill promotion (CARES) project: Site Recruitment Materials.

OMB No.: New Collection.

Description: The Head Start Classroom-based Approaches and Resources for Emotion and Social skill promotion (CARES) project will evaluate program enhancements within Head Start settings serving three- and four-year-old children. This project focuses on identifying the central features of effective programs to provide the information Federal policy makers and Head Start providers will need if they are to increase Head Start's capacity to improve the social and emotional skills and school readiness of preschool-age children. The project is sponsored by the Office of Planning, Research and Evaluation (OPRE) of the Administration for Children and Families (ACF), part of the Department of Health and Human Services (HHS).

The Head Start CARES project will use a group-based randomized design to test the effects of several different evidence-based strategies designed to improve the social and emotional development of children in Head Start classrooms.

The purpose of the proposed information collection is to recruit Head Start grantees to participate in the project, through informing grantee staff about the project, soliciting their interest in participating, and collecting information to assess their programs' eligibility to participate in the project.

Respondents: Respondents will include staff in Head Start grantee and delegate agencies.

Annual Burden Estimates
Instrument | Number of respondents | Number of responses per respondent | Average burden hours per response | Total burden hours
Project Description | 40 | 1 | .5 | 20
Phone Discussion Points & Screener | 40 | 1 | 1 | 40
Discussion Guide for Site Visits | 130 | 1 | 2 | 260
Estimated Total Annual Burden Hours: |  |  |  | 320

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: OPREInfoCollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 20, 2008.
Brendan C. Kelly,
OPRE Reports Clearance Officer.

[FR Doc. E8-6343 Filed 3-28-08; 8:45 am]

BILLING CODE 4184-01-M